NATIONAL CREDIT UNION ADMINISTRATION

Sunshine Act: Notice of Agency Meeting

TIME AND DATE: 10 a.m., Thursday, March 20, 2014.

PLACE: Board Room, 7th Floor, Room 7047, 1775 Duke Street (All visitors must use Diagonal Road Entrance), Alexandria, VA 22314-3428.

STATUS: Open.

MATTERS TO BE CONSIDERED:

1. Interagency Rule, Minimum Requirements for Appraisal Management Companies.

2. Corporate Stabilization Fund Quarterly Report.

RECESS: 10:30 a.m.

TIME AND DATE: 10:45 a.m., Thursday, March 20, 2014.

PLACE: Board Room, 7th Floor, Room 7047, 1775 Duke Street, Alexandria, VA 22314-3428.

STATUS: Closed.

MATTERS TO BE CONSIDERED:

1. Share Insurance Appeals (2). Closed pursuant to Exemption (4).

2. Share Insurance Appeals (2). Closed pursuant to Exemption (6).

FOR FURTHER INFORMATION CONTACT: Gerard Poliquin, Secretary of the Board, Telephone: 703-518-6304.

Gerard Poliquin,
Secretary of the Board.

[FR Doc. 2014-05909 Filed 3-13-14; 4:15 pm]

BILLING CODE 7535-01-P